DEPARTMENT OF HOMELAND SECURITY

Coast Guard

33 CFR Part 117

[USCG-2008-1216]

RIN 1625-AA09

Drawbridge Operation Regulations; Potomac River, Between MD and VA

AGENCY: Coast Guard, DHS.

ACTION: Final rule.

SUMMARY: The Coast Guard is changing the drawbridge operation regulations of the new Woodrow Wilson Memorial (I-95) Bridge, mile 103.8, across the Potomac River between Alexandria, VA and Oxon Hill, MD. This rule is being made in an effort to minimize the potential for major regional vehicular traffic impacts and consequences during bridge openings of the draw span while still providing for reasonable needs of marine traffic.

DATES: This rule is effective July 30, 2009.

ADDRESSES: Comments and related materials received from the public, as well as documents mentioned in this preamble as being available in the docket, are part of docket USCG-2008-1216 and are available online at http://www.regulations.gov. This material is also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: If you have questions on this rule, call Waverly W. Gregory, Jr., Bridge Administrator, Fifth Coast Guard District, at 757-398-6222. If you have questions on viewing or submitting material to the docket, call Renee V. Wright, Program Manager, Docket Operations, telephone 202-366-9826.

SUPPLEMENTARY INFORMATION:

Regulatory Information

On February 9, 2009, we published a notice of proposed rulemaking (NPRM) entitled, “Drawbridge Operation Regulations; Potomac River, Between MD and VA” (74 FR 6359). We received no comments on the published NPRM. No public meeting was requested, and none was held.

Background and Purpose

On July 2, 2008, we published a temporary regulation entitled “Drawbridge Operation Regulations; Potomac River, Between MD and VA,” in the Federal Register (73 FR 37806). While construction continued, the temporary rule allowed the drawbridge to remain closed-to-navigation each day from 10 a.m. to 2 p.m. until and including March 1, 2009.

The MD State Highway Administration and the VA Department of Transportation, co-owners of the drawbridge, requested to permanently maintain the Woodrow Wilson Bridge in the closed-to-navigation position each day from 10 a.m. to 2 p.m. This request was made in an effort to minimize the potential for major regional vehicular traffic impacts and consequences during bridge openings.

In reaching our decision to implement this request, we balanced the large volume of vehicular traffic moving across the bridge against the lack of large commercial vessel traffic seeking to use the bridge during this period. The Woodrow Wilson Bridge is part of the Capital Beltway Interstate Highway System. It is a critical component of that system for both local and regional traffic moving into, around, and through the Washington, DC metro area. Bridge openings cause significant traffic delays.

From a river-user standpoint, the coordinators for the construction of the new Woodrow Wilson Bridge Project have received no requests from boaters or mariners to open the bridge during the 10 a.m. to 2 p.m. timeframe since the first temporary deviation was issued in late June 2006. In fact, no requests have been received for an opening of the new bridge at all since July 3, 2006. Finally, the coordinators have received no complaints on the 10 a.m. to 2 p.m. restriction. This rule will affect only vessels with mast heights of 75 feet or greater. Furthermore, all operators of affected vessels with mast heights greater than 75 feet will be able to request an opening of the drawbridge in the “off-peak” vehicle traffic hours (evening and overnight) in accordance with 33 CFR 117.255(a). As discussed in the Notice of Proposed Rulemaking, currently, 33 CFR 117.255(a)(2)(i) states (paraphrasing) that the drawbridge need not open for the passage of a commercial vessel, Monday through Friday, 5 a.m. to 10 a.m. and 2 p.m. to 8 p.m. This final rule connects the two time periods by extending the operating regulation to cover the entire period from 5 a.m. until 8 p.m. We considered the alternative of narrowing the mid-day window from 10 a.m. to 2 p.m. to make it a shorter window. However, since there were no vessel requests for this time period at all, we rejected this option. We also considered taking no action at all; however, due to the high volume of vehicle traffic using the bridge, we rejected this option as well.

Discussion of Comments and Changes

The Coast Guard received no comments to the NPRM. Therefore, we will implement a final rule with no changes to the NPRM. If commercial vessel traffic patterns change, we will revisit the operating requirements. Questions or concerns regarding the opening of the Woodrow Wilson Memorial Bridge may be directed to the person identified in the For Further Information Section of this final rule. Requests to change the operating schedule for this bridge should be sent to the Fifth District Commander in Portsmouth, Virginia (See 33 CFR 117.8).

Regulatory Analyses

We developed this rule after considering numerous statutes and executive orders related to rulemaking. Below we summarize our analyses based on 13 of these statutes or executive orders.

Regulatory Planning and Review

This rule is not a “significant regulatory action” under section 3(f) of Executive Order 12866, Regulatory Planning and Review, and does not require an assessment of potential costs and benefits under section 6(a)(3) of that Order. The Office of Management and Budget has not reviewed it under that Order. We reached this conclusion based on the fact that these changes have only a minimal impact on maritime traffic transiting through the bridge. All operators of affected vessels with mast heights greater than 75 feet will be able to request an opening of the drawbridge in the “off-peak” vehicle traffic hours (evening and overnight) in accordance with 33 CFR 117.255(a), and mariners can plan their trips in accordance with the scheduled bridge openings to minimize delays.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule could affect the following entities, some of which might be small entities: The owners or operators of vessels intending to transit through the bridge, between the hours of 10 a.m. and 2 p.m., Monday through Friday.

This rule will not have a significant economic impact on a substantial number of small entities for the following reasons. This rule only adds minimal restrictions to the movement of navigation. All operators of affected vessels with mast heights greater than 75 feet will be able to request an opening of the drawbridge in the “off-peak” vehicle traffic hours (evening and overnight) in accordance with 33 CFR 117.255(a). Additionally, mariners who plan their transits in accordance with the scheduled bridge openings can minimize delay.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.1D and Department of Homeland Security Management Directive 5100.1, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (32)(e) of the Instruction, from further environmental documentation.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.255 revise paragraph (a)(2)(i) to read as follows:

§ 117.255 Potomac River.

* * * * *

(a) * * *

(2) * * *

(i) From Monday through Friday (except Federal holidays), 5 a.m. to 8 p.m.

* * * * *

Dated: June 25, 2009.
Fred M. Rosa, Jr.,
Rear Admiral, United States Coast Guard Commander, Fifth Coast Guard District.

[FR Doc. E9-15559 Filed 6-26-09; 4:15 pm]

BILLING CODE 4910-15-P